FEDERAL LABOR RELATIONS AUTHORITY

5 CFR Part 5901

Supplemental Standards of Ethical Conduct for Employees of the Federal Labor Relations Authority

AGENCY: Federal Labor Relations Authority (FLRA).

ACTION: Final rule.

SUMMARY: The Federal Labor Relations Authority (FLRA), with the concurrence of the Office of Government Ethics (OGE), is adopting as final, without change, the interim FLRA rule that supplements the executive-branch-wide Standards of Ethical Conduct (Standards) issued by OGE and, with certain exceptions, requires FLRA employees to obtain approval before engaging in outside employment.

DATES: This final rule is effective March 18, 2011.

FOR FURTHER INFORMATION CONTACT: Rosa M. Koppel, Solicitor, at rkoppel@flra.gov, fax: (202) 343-1007.

SUPPLEMENTARY INFORMATION: The FLRA published, with OGE concurrence, an interim rule in 75 FR 79261, on December 20, 2010, governing the conduct of FLRA employees and requested comments. No comments were received. The FLRA has determined, with OGE concurrence, to adopt the interim rule as final without change. The interim rule being adopted as final provides that an FLRA employee, other than a special Government employee, must obtain approval before engaging in outside employment. The rule defines outside employment and sets out the procedure for seeking approval. The rule also provides that the Designated Agency Ethics Official (DAEO) or alternate DAEO may exempt certain categories of employment from the prior approval requirement.

For a detailed section analysis of this final rule, see the preamble of the interim rule as published in 75 FR 79261.

Regulatory Flexibility Act

The FLRA has determined, pursuant to the Regulatory Flexibility Act, 5 U.S.C. chapter 6, that this rulemaking will not have a significant economic impact on a substantial number of small entities because it primarily affects FLRA employees.

Paperwork Reduction Act

The Paperwork Reduction Act, 44 U.S.C. chapter 35, does not apply because this rulemaking does not contain information collection requirements subject to the approval of the Office of Management and Budget.

Congressional Review Act

The FLRA has determined that this rule is not a rule as defined in 5 U.S.C. 804, and thus, does not require review by Congress.

List of Subjects in 5 CFR Part 5901

Conflict of interest, Government employees.

Authority and Issuance

Accordingly, the Federal Labor Relations Authority, with the concurrence of the Office of Government Ethics, is adopting the interim rule adding 5 CFR chapter XLIX, consisting of part 5901, which was published at 75 FR 79261 on December 20, 2010, as a final rule without change.

Dated: March 9, 2011.
Carol Waller Pope,
Chairman, Federal Labor Relations Authority.
Approved: March 11, 2011.
Robert I. Cusick,
Director, Office of Government Ethics.

[FR Doc. 2011-6335 Filed 3-17-11; 8:45 am]

BILLING CODE 6727-01-P